SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before January 23, 2018.

ADDRESSES: Send all comments to Dolores Rowen, Associate Director, Office of Policy and Research, National Women's Business Council Small Business Administration, 409 3rd Street, 5th Floor, Washington, DC 20416.

FOR FURTHER INFORMATION CONTACT: Dolores Rowen, Associate Director, Office of Policy and Research, National Women's Business Council Small Business Administration, Dolores.rowen@sba.gov 202-205-9974, or Curtis B. Rich, Management Analyst, 202-205-7030, curtis.rich@sba.gov;

SUPPLEMENTARY INFORMATION: This data collection is needed to fill the current void in information available about women's participation in the corporate market. It will be used to enable the development of specific and actionable recommendations to increase opportunities for women-owned businesses to obtain corporate contracts and make an even greater contribution to the U.S. economy. Respondents will be women business owners in the U.S. and managers of corporate supplier diversity programs.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Women's Participation in Corporate Supplier Diversity Programs.

Description of Respondents: Women business owners in the U.S. and managers of corporate supplier diversity programs.

Form Number: N/A.

Total Estimated Annual Responses: 3,024.

Total Estimated Burden Hours: 732.

Curtis B. Rich,
Management Analyst.

[FR Doc. 2017-25385 Filed 11-22-17; 8:45 am]

BILLING CODE 8025-01-P